NATIONAL SCIENCE FOUNDATION

Proposal Review Panel for Materials Research; Notice of Meeting

In accordance with the Federal Advisory Committee Act (Pub. L. 92-463 as amended), the National Science Foundation announces the following meeting:

Name: Proposal Review Panel for Materials Research #1203.

Dates and Times:

March 2, 2006; 7:45 a.m.-9 p.m.

March 3, 2006; 8 a.m.-3 p.m.

Place: University of Colorado in Boulder, Colorado.

Type of Meeting: Partially Closed.

Contact Person: Dr. Ulrich Strom, Program Director, Materials Research Science and Engineering Centers Program, Division of Materials Research, Room 1065, National Science Foundation, 4201 Wilson Boulevard, Arlington, VA 22230, Telephone (703) 292-4938.

Purpose of Meeting: To provide advice and recommendations concerning a proposal submitted to NSF for financial support.

Agenda

March 2, 2006

7:45 a.m.-9 a.m. Closed—Executive Session

9 a.m.-4:30 p.m. Open—Presentations by members of the Materials Research Science and Engineering Center (MRSEC) at the U. of Colorado; Topics: Status and Plans of Research and Education Program of the MRSEC.

4:30 p.m.-6 p.m. Closed—Executive Session, review and evaluation

March 3, 2006

8 a.m.-9 a.m. Closed

9 a.m.-10:45 a.m. Open—Presentations by members of the Materials Research Science and Engineering Center (MRSEC) at the U. of Colorado; Topics: Status and Plans of Research and Education Program of the MRSEC.

10:45 a.m.-3 p.m. Closed—Executive Session, review and drafting of report.

Reason for Closing: The work being reviewed may include information of a proprietary or confidential nature, including technical information; financial data, such as salaries and personal information concerning individuals associated with the proposals. These matters are exempt under 5 U.S.C. 552b(c), (4) and (6) of the Government in the Sunshine Act.

Dated: February 3, 2006.
Susanne Bolton,
Committee Management Officer.

[FR Doc. 06-1155 Filed 2-7-06; 8:45am]

BILLING CODE 7555-01-M